DEPARTMENT OF ENERGY

Federal Energy Regulatory Commission

Combined Notice of Filings #1

Take notice that the Commission received the following electric corporate filings:

Docket Numbers: EC25-2-000.

Applicants: DESRI Holdings, L.P., Airport Solar LLC, Assembly Solar, LLC, Assembly Solar I, LLC, Assembly Solar II, LLC, Assembly Solar III, LLC, Arroyo Solar LLC, Arroyo Energy Storage LLC, Balko Wind, LLC, Balko Wind Transmission, LLC, Bartonsville Energy Facility, LLC, Big River Solar, LLC, Blue Bird Solar, LLC, Castle Solar, LLC, Cuyama Solar, LLC, Cove Mountain Solar, LLC, Cove Mountain Solar 2, LLC, Dressor Plains Solar, LLC, Drew Solar, LLC, Drew Solar-CA, LLC,DWW Solar II, LLC, Elektron Solar, LLC, Gravel Pit Solar III, LLC, Gravel Pit Solar IV, LLC, Gray Hawk Solar, LLC, Hecate Energy Highland LLC, Highland Solar Transco Interconnection LLC, Horseshoe Solar, LLC, Hunter Solar LLC, Hunter Solar, LLC, Iris Solar, LLC, Long Lake Solar, LLC,MS Solar 2, LLC, North Star Solar PV LLC, Portal Ridge Solar B, LLC, Portal Ridge Solar C, LLC, Prairie State Solar, LLC, Rancho Seco Solar II LLC, Red Horse III, LLC, Red Horse Wind 2, LLC, River Fork Solar, LLC, Rocket Solar, LLC, Rocking R Solar, LLC, San Juan Solar 1, LLC, Sigurd Solar LLC,SJS 1 Storage, LLC, Speedway Solar, LLC, St. James Solar, LLC, Steel Solar, LLC,TPE Alta Luna, LLC, Willow Springs Solar, LLC, Sunlight Road Solar, L.L.C.,62SK 8ME LLC,63SU 8ME LLC.

Description: Application for Authorization Under Section 203 of the Federal Power Act of DESRI Holdings, L.P.

Filed Date: 10/4/24.

Accession Number: 20241004-5222.

Comment Date: 5 p.m. ET 10/25/24.

Take notice that the Commission received the following exempt wholesale generator filings:

Docket Numbers: EG25-3-000.

Applicants: Wheatsborough Solar, LLC.

Description: Wheatsborough Solar, LLC submits Notice of Self-Certification of Exempt Wholesale Generator Status.

Filed Date: 10/7/24.

Accession Number: 20241007-5103.

Comment Date: 5 p.m. ET 10/28/24.

Take notice that the Commission received the following electric rate filings:

Docket Numbers: ER24-2815-000.

Applicants: Harquahala Sun 1, LLC.

Description: Supplement to 08/20/2024 Harquahala Sun 1, LLC tariff filing.

Filed Date: 10/4/24.

Accession Number: 20241004-5142.

Comment Date: 5 p.m. ET 10/15/24.

Docket Numbers: ER24-2816-000.

Applicants: Harquahala Sun 2, LLC.

Description: Supplement to 08/20/2024 Harquahala Sun 2, LLC tariff filing.

Filed Date: 10/4/24.

Accession Number: 20241004-5155.

Comment Date: 5 p.m. ET 10/15/24.

Docket Numbers: ER25-47-000.

Applicants: Northern States Power Company, a Minnesota corporation.

Description: § 205(d) Rate Filing: 2024-10-04 NSP-CAPX-JDA-Alex-Big Oaks 766-0.0.0 to be effective 9/3/2024.

Filed Date: 10/4/24.

Accession Number: 20241004-5209.

Comment Date: 5 p.m. ET 10/25/24.

Docket Numbers: ER25-48-000.

Applicants: NextEra Energy Transmission Southwest, LLC, Southwest Power Pool, Inc.

Description: § 205(d) Rate Filing: NextEra Energy Transmission Southwest, LLC submits tariff filing per 35.13(a)(2)(iii: NextEra Energy Transmission Southwest, LLC Formula Rates Revisions to be effective 1/1/2025.

Filed Date: 10/7/24.

Accession Number: 20241007-5056.

Comment Date: 5 p.m. ET 10/28/24.

Docket Numbers: ER25-49-000.

Applicants: NSTAR Electric Company.

Description: § 205(d) Rate Filing: Vicinity Energy Boston, Inc.—Design and Engineering Agreement to be effective 10/8/2024.

Filed Date: 10/7/24.

Accession Number: 20241007-5058.

Comment Date: 5 p.m. ET 10/28/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 7, 2024.
Debbie-Anne A. Reese,
Acting Secretary.

[FR Doc. 2024-23676 Filed 10-11-24; 8:45 am]

BILLING CODE 6717-01-P